DEPARTMENT OF COMMERCE

National Oceanic and Atmospheric Administration

RIN 0648-XC777

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (Council) and its Research Set-Aside Committee (RSA), and its Ecosystems and Ocean Planning Committee will hold public meetings.

DATES: The meetings will be held Tuesday, August 13, 2013 through Thursday, August 15, 2013. See SUPPLEMENTARY INFORMATION for specific dates and times.

ADDRESSES: The meeting will be held at the Double Tree Hilton Wilmington, 4727 Concord Pike, Wilmington, DE telephone: (302) 478-6000.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Tuesday, August 13, 2013

1 p.m. until 3 p.m.—The RSA Committee will meet.

3 p.m. until 5 p.m.—The Ecosystems and Ocean Planning Committee with Advisors will meet.

5 p.m. until 6 p.m.—The Listening Session will be held.

Wednesday, August 14, 2013

9 a.m.—The Council will convene.

9 a.m. until 9:15 a.m.—Swearing in of new and reappointed Council members and the election of Council Officers will be held.

9:15 a.m. until 10:30 a.m.—A discussion of the Strategic Plan will be held.

10:30 a.m. until 12 p.m.—The Deep Sea Coral Amendment will be discussed.

1:30 p.m. until 2:30 p.m.—The Omnibus Baseline Amendment will be discussed.

2:30 p.m. until 3 p.m.—Surfclams and Ocean Quahogs will be discussed.

3 p.m. until 4 p.m.—Butterfish research will be discussed from

4 p.m. until 5—The South Atlantic Fishery Management Council (SAFMC) will hold a public hearing.

Thursday, August 15, 2013

9 a.m. until 1 p.m.—The Council will hold its regular Business Session to approve the June 2013 minutes, receive Organizational Reports, the New England and South Atlantic Liaison Reports, the Executive Director's Report, the Science Report, Committee Reports, and conduct any continuing and/or new business.

Agenda items by day for the Council's Committees and the Council itself are:

Tuesday, August 13, 2013

The RSA Committee will develop research recommendations for 2015 and discuss Council policy for future RSA research prioritization and Request for Proposal development. The Ecosystems and Ocean Planning Committee will meet with Advisors to review and approve the Deep Sea Coral alternatives for Public Hearing. The Listening Session will focus on Mid-Atlantic ocean wind power and fisheries.

Wednesday, August 14, 2013

The Council will swear in new and reappointed Council Members and elect Council Officers. The Council will review public comments and approve the Strategic Plan and discuss development of an implementation plan. The Council will approve alternatives for public hearings for the Deep Sea Coral Amendment. The Council will receive an Omnibus Baseline Amendment update on National Marine Fisheries Service actions on NE vessel replacement restrictions. The Council will discuss possible approaches to update Biological Reference Points and Optimum Yield range for Surfclams and Ocean Quahogs. The Council will hear the results of butterfish and longfin squid bio-economic research from recent Duke and University of Delaware graduate students. The SAFMC will hold a public hearing for the Generic Dealer Amendment, Amendment 5 to Dolphin/Wahoo, Amendment 19 and 20 to the Joint Coastal Migratory Pelagics (CMP), and the Framework to CMP.

Thursday, August 15, 2013

The Council will hold its regular Business Session to approve the June 2013 minutes, receive Organizational Reports to include a presentation from the US Coast Guard on Enforceability Precepts for Northeast Regional Fishery Management Councils, the New England and South Atlantic Liaison Reports, the Executive Director's Report, Science Report, Committee Reports, receive and approve SSC nominations, and conduct any continuing and/or new business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: July 19, 2013.
Tracey L. Thompson,
Acting Deputy Director, Office of Sustainable Fisheries, National Marine Fisheries Service.

[FR Doc. 2013-17774 Filed 7-23-13; 8:45 am]

BILLING CODE 3510-22-P